DEPARTMENT OF STATE

[Public Notice: 10016]

Diplomatic Security Request for Higher Maximum Uniform Allotment

AGENCY: Department of State.

ACTION: Notice.

SUMMARY: This is a notice that the Department of State (DOS) is establishing a higher initial maximum uniform allowance to procure and issue uniform items for special agent personnel within the Office of Mobile Security Deployments (DS/T/MSD). This action is pursuant to the authority granted to the DOS by 5 CFR 591.104, which states that an agency may establish one or more initial maximum uniform allowance rates greater than the government-wide maximum uniform allowance rate established under 5 CFR 591.103.

DATES: June 7, 2017.

FOR FURTHER INFORMATION CONTACT: Mr. Lee Evans, Management Program Analyst, DS/T/MSD, Ph.—703-618-7903.

SUPPLEMENTARY INFORMATION: The DOS is implementing a higher initial maximum uniform allowance to procure and issue uniform items for special agent personnel within the DS/T/MSD. This is being established in accordance with 5 CFR 591.104, which states that an agency may establish one or more initial maximum uniform allowance rates greater than the government-wide maximum uniform allowance rate established under 5 CFR 591.103. The current $800.00 limit has become inadequate to maintain the uniform standards and professional image expected of Diplomatic Service special agents whom serve within DS/T/MSD. The uniform items for DS/T/MSD special agent personnel include the following items or similar items such as: Battle dress uniform pants, hot weather top and blouses; heavy duty battle dress uniform; cloth uniform insignia patches, and cloth uniform badges. The average total uniform cost for the listed items is $1,400.00. Based on these current costs, the DOS is increasing the initial maximum uniform allowance for DOS special agents in DS/T/MSD to $1,400.00. The number of DOS special agents in DS/T/MSD affected by this change would be approximately 125 employees.

Stephen B. Dietz, III,
Executive Director, Bureau of Diplomatic Security, Department of State.

[FR Doc. 2017-11729 Filed 6-6-17; 8:45 am]

BILLING CODE 4710-43-P